DEPARTMENT OF TRANSPORTATION

National Highway Traffic Safety Administration

[U.S. DOT Docket Number NHTSA-2000-6887]

Reports, Forms, and Recordkeeping Requirements

AGENCY: National Highway Traffic Safety Administration (NHTSA), Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections. This document describes one collection of information for which NHTSA intends to seek OMB approval.

DATES: Comments must be received on or before December 23, 2002.

ADDRESSES: Comments may be submitted in writing to the U.S. Department of Transportation's Docket Management Section, Room PL-401, 400 Seventh Street, SW., Washington, DC 20590. It is requested, but not required, that 2 copies of the comment be provided. The Docket Section is open on weekdays from 10 a.m. to 5 p.m. Alternatively, comments may be submitted electronically by logging onto the docket management Web site at http://dms.dot.gov. Click on “Help” or “Electronic Submission” to obtain instructions for filing the document electronically. In the submittal, the commenter should refer to the docket number.

FOR FURTHER INFORMATION CONTACT: For further information, contact Mr. Joseph Scott, Office of Crash Avoidance Standards, 400 Seventh Street, SW., Washington, DC 20590. Mr. Scott's telephone number is (202) 366-8525. His fax number is (202) 493-2739. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(1) Whether the proposed collection of information is necessary for the proper performance of the functions of the agency, including whether the information will have practical utility;

(2) The accuracy of the agency's estimate of the burden of the proposed collection of information, including the validity of the methodology and assumptions used;

(3) How to enhance the quality, utility, and clarity of the information to be collected;

(4) How to minimize the burden of the collection of information on those who are to respond, including the use of appropriate automated, electronic, mechanical, or other technological collection techniques or other forms of information technology, e.g., permitting electronic submission of responses.

In compliance with these requirements, NHTSA asks for public comments on the following proposed collections of information:

Title: Tires and Rim Labeling.

OMB Control Number: 2127-0503.

Affected Public: Tire and Rim Manufacturers.

Form Number: The tires and rims are labeled in accordance with the agency's Federal Motor Vehicle Safety Standards (FMVSSs) and regulations.

Abstract: Each tire manufacturer and rim manufacturer must label their tire or rim with the applicable safety information. These labeling requirements ensure that tires are mounted on the appropriate rims; and that the rims and tires are mounted on the vehicles for which they are intended. This requirement received its latest OMB clearance in the year 2000, and has a current expiration date of September 30, 2003.

The Transportation Recall Enhancement, Accountability, and Documentation (TREAD) Act of 2000 mandates a rulemaking proceeding to revise and update the safety performance requirements for tires. In response, NHTSA proposed a new Federal Motor Vehicle Safety Standard requiring all new tires for use on vehicles with a gross vehicle weight rating of 10,000 pounds or less to meet new and more stringent performance requirements. The new Federal Motor Vehicle Safety Standard (FMVSS) No. 139 is titled “New pneumatic radial tires for motor vehicles with a GVWR of 10,000 pounds or less except motorcycles and low-speed vehicles.” Most SUVs, vans, trailers, and pickup trucks will be required to comply with the same tire selection and rim requirements as passenger cars. FMVSS No. 120 continues to apply to vehicles over 10,000 pounds GVWR and motorcycles.

To accommodate the vehicles equipped with tires that comply with FMVSS No. 139, FMVSS No. 110 will be re-titled “Tire selection and rims for motor vehicles with a GVWR of 10,000 pounds or less” and the current non-passenger rim marking requirements of FMVSS No. 120 will be also be placed in FMVSS No. 110. These rim marking requirements mandate that each rim or, at the option of the manufacturer in the case of a single-piece wheel, each wheel disc shall be marked with the following: (1) The designation that indicates the source of the rim's published nominal dimensions, (2) the rim size designation, and in case of multipiece rims, the rim type designation, (3) the symbol DOT, constituting a certification by the manufacturer of the rim that the rim complies with all applicable Federal motor vehicle safety standards, and (4) a designation that identifies the manufacturer of the rim by name, trademark, or symbol, and (5) the month, day and year or the month and year of manufacture, expressed either numerically or by use of a symbol, at the option of the manufacturer.

Any manufacturer that elects to express the date of manufacture by means of a symbol shall notify NHTSA in writing of the full names and addresses of all manufacturers and brand name owners utilizing that symbol and the name and address of the trademark owner of that symbol, if any. The notification shall describe in narrative form and in detail how the month, day, and year or the month and year are depicted by the symbol. Such description shall include an actual size graphic depiction of the symbol, showing and/or explaining the interrelationship of the component parts of the symbol as they will appear on the rim or single piece wheel disc, including dimensional specifications, and where the symbol will be located on the rim or single piece wheel disc. The notification shall be received by NHTSA not less than 60 calendar days before the first use of the symbol. All information provided to NHTSA under this paragraph will be placed in the public docket. Each manufacturer of wheels shall provide an explanation of its date of manufacture symbol to any person upon request.

Based on the facts that these are existing rim labeling requirements that they do not affect either the production or quantity of rims produced, NHTSA believes that this maintenance effort will not result in any net increase in the burden on those parties currently covered by existing regulations; therefore, the estimated annual burden and estimated number of respondents remains unchanged with estimated annual burden of 5,679,585, and estimated number of respondents of 6,673.

Issued on: October 18, 2002.
Stephen R. Kratzke,
Associate Administrator for Rulemaking.

[FR Doc. 02-26972 Filed 10-22-02; 8:45 am]

BILLING CODE 4910-59-P